DEPARTMENT OF TRANSPORTATION

Federal Aviation Administration

14 CFR Part 71

[Docket No. FAA-2025-2232; Airspace Docket No. 25-ACE-3]

RIN 2120-AA66

Amendment of Class D and Class E Airspace, Establishment of Class E Airspace, and Revocation of Class E; Wichita, KS

AGENCY: Federal Aviation Administration (FAA), DOT.

ACTION: Notice of proposed rulemaking (NPRM).

SUMMARY: This action proposes to amend the Class D and Class E airspace, establish Class E airspace, and revoke Class E airspace at Wichita, KS. The name of Wichita Dwight D. Eisenhower National Airport, Wichita, KS; the geographic coordinates of Augusta Municipal Airport, Augusta, KS; and the name and geographic coordinates of the McConnell AFB, Wichita, KS, and the Wichita Dwight D. Eisenhower Intl: RWY 01R-LOC would also be updated to coincide with the FAA's aeronautical database. The FAA is proposing these actions to accommodate a U.S. Air Force request to change the McConnell AFB Class D airspace from full-time to part-time and establish part-time Class E surface airspace and the associated airspace reviews conducted to accommodate this request. This action will bring the airspace into compliance with FAA orders and support instrument flight rule (IFR) procedures and operations.

DATES: Comments must be received on or before September 25, 2025.

ADDRESSES: Send comments identified by FAA Docket No. FAA-2025-2232 and Airspace Docket No. 25-ACE-3 using any of the following methods:

* Federal eRulemaking Portal: Go to www.regulations.gov and follow the online instructions for sending your comments electronically.

* Mail: Send comments to Docket Operations, M-30; U.S. Department of Transportation, 1200 New Jersey Avenue SE, Room W12-140, West Building, Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to Docket Operations in Room W12-140 of the West Building Ground Floor at 1200 New Jersey Avenue SE, Washington, DC, between 9 a.m. and 5 p.m., Monday through Friday, except Federal holidays.

FAA Order JO 7400.11J, Airspace Designations and Reporting Points, and subsequent amendments can be viewed online at www.faa.gov/air_traffic/publications/. You may also contact the Rules and Regulations Group, Office of Policy, Federal Aviation Administration, 600 Independence Avenue SW, Washington, DC 20597; telephone: (202) 267-8783.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it would amend, establish, or remove Class D and E airspace to support IFR operations at the affected airports.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it received on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov as described in the system of records notice (DOT/ALL-14FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received, and any final disposition in person in the Dockets Operations office (see the ADDRESSES section for the address, phone number, and hours of operations). An informal docket may also be examined during normal business hours at the Federal Aviation Administration, Air Traffic Organization, Central Service Center, Operations Support Group, 10101 Hillwood Parkway, Fort Worth, TX 76177.

Incorporation by Reference

Class D and E airspace is published in paragraphs 5000, 6002, 6003, 6004, and 6005 of FAA Order JO 7400.11, Airspace Designations and Reporting Points, which is incorporated by reference in 14 CFR 71.1 on an annual basis. This document proposes to amend the current version of that order, FAA Order JO 7400.11J, dated July 31, 2024, and effective September 15, 2024. These updates would be published subsequently in the next update to FAA Order JO 7400.11. FAA Order JO 7400.11J, which lists Class A, B, C, D, and E airspace areas, air traffic service routes, and reporting points, is publicly available as listed in the ADDRESSES section of this document.

The Proposal

The FAA is proposing an amendment to 14 CFR part 71 that would make several modifications to the Class D and E airspace in the Wichita, Kansas area as the result of a U.S. Air Force request to change the McConnell AFB, Wichita, KS, Class D airspace from full-time to part-time and to establish part-time Class E surface airspace and the associated airspace reviews affected by the request.

For the Beech Factory Airport, Wichita, KS, Class D airspace, the proposal would: (1) expand the radius from 4.2 miles to 4.4 miles; (2) remove the name of the airport from the airspace legal description header to comply with changes to FAA Order JO 7400.2R, Procedures for Handling Airspace Matters; (3) remove the city associated with the airport in the airspace legal description to comply with changes to FAA Order JO 7400.2R; (4) add an exclusion for the McConnell AFB, Wichita, KS, Class E surface area; and (5) change the coordinates of the boundary line from “lat. 37°43′07″ N, long. 97°17′51″ W, to lat. 37°43′47″ N, long. 97°08′21″ W” to “lat 37°43′22″ N, long 097°18′26″ W, to lat 37°43′23″ N, long 097°07′49″ W” to account for the expansion of the Class D airspace and Class E surface airspace at Beech Factory Airport and Colonel James Jabara Airport, Wichita, KS.

For the McConnell AFB Class D airspace, the proposal would: (1) expand the radius from 4.5 miles to 4.6 miles; (2) remove the name of the airport from the airspace legal description header to comply with changes to FAA Order JO 7400.2R; (3) remove the city associated with the airport from the airspace legal description to comply with changes to FAA Order JO 7400.2R; (4) add an exclusion area within a 1-mile radius of the Beech Factory Airport; (5) update the name of the Wichita Mid-Continent Airport, KS, Class C area to Wichita, KS, Class C area to coincide with a change to the airspace legal description; and (6) add part-time language to the airspace legal description.

For the Beech Factory Airport Class E surface airspace, the proposal would: (1) increase the radius from 4.2 miles to 4.4 miles; (2) remove the name of the airport from the airspace legal description header to comply with changes to FAA Order JO 7400.2R; (3) remove the city associated with the airport in the airspace legal description to comply with changes to FAA Order JO 7400.2R; (4) add an exclusion for the McConnell AFB Class E surface area; and (5) change the coordinates of the boundary line from “lat. 37°43′07″ N, long. 97°17′51″ W, to lat. 37°43′47″ N, long. 97°08′21″ W” to “lat 37°43′22″ N, long 097°18′26″ W, to lat 37°43′23″ N, long 097°07′49″ W” to account for the expansion of the Class D airspace and Class E surface airspace at Beech Factory Airport and Colonel James Jabara Airport.

For the Colonel James Jabara Airport Class E surface airspace, the proposal would: (1) increase the radius from 4 miles to 4.3 miles; (2) remove the name of the airport from the airspace legal description header to comply with changes to FAA Order JO 7400.2R; (3) remove the city associated with the airport from the airspace legal description to comply with changes to FAA Order JO 7400.2R; (4) add an exclusion area south of a line from lat 37°43′22″ N, long 097°18′26″ W, to lat 37°43′23″ N, long 097°07′49″ W; and (5) remove the exclusion to the McConnell AFB Class D airspace as it is no longer required.

The proposal would establish a part-time Class E surface area at McConnell AFB within a 4.6-mile radius of the airport excluding that airspace within a 1-mile radius of Beech Factory Airport and within the Wichita, KS, Class C airspace area.

The proposal would establish a Class E airspace area designated as an extension to Class C airspace at Wichita Dwight D. Eisenhower Airport, Wichita, KS, within 7.2 miles each side of the 126° bearing from the Wichita VORTAC extending from the airport to 7.8 miles northwest of the airport.

The proposal would remove the Class E airspace area designated as an extension to a Class D surface area at McConnell AFB as it is no longer required.

For the Wichita, KS, Class E airspace extending upward from 700 feet above the surface, the proposal would: (1) increase the radius from 7.2 miles to 7.9 miles at Wichita Dwight D. Eisenhower National Airport; (2) modify the extension to within 1.1 miles (reduced from 4 miles west east) of the 126°/306° bearings (previously the Mid-Continent Airport ILS localizer course to runway 1L) extending from the 7.9-mile radius (previously airport) of the Wichita Dwight D. Eisenhower National Airport to 9.5 miles (reduced from 13 miles) northwest (previously south) of the Wichita Dwight D. Eisenhower National Airport (previously airport to 7.4 miles north of the airport); (3) update the name and geographic coordinates of the Wichita Dwight D. Eisenhower Intl: RWY 01R-LOC (previously Wichita Mid-Continent Localizer Runway 1L) and McConnell AFB (previously McConnell Air Force Base) to coincide with the FAA's aeronautical database; (4) update the name of Wichita Dwight D. Eisenhower National Airport (previously Wichita Mid-Continent Airport) to coincide with the FAA's aeronautical database; (5) increase the radius from 7 miles to 7.1 miles at McConnell AFB; (6) remove the Wichita McConnell Air Force Base, KS, listing associated with the localizer and the associated extension south of the McConnell AFB from the airspace legal description as they are no longer required; (7) remove the cities associated with McConnell AFB and Colonel James Jabara Airport to comply with changes to FAA Order JO 7400.2R; (8) increase the radius from 6.4 miles to 6.8 miles at Augusta Municipal Airport; (9) update the geographic coordinates of Augusta Municipal Airport to coincide with the FAA's aeronautical database; (10) increase the radius from 6.5 miles to 6.8 miles of Colonel James Jabara Airport; (11) remove the AUBRA Waypoint and the associated extension from the airspace legal description as they are no longer required; and (12) remove the name of Wichita Mid-Continent Airport from the airspace legal description header to comply with changes to FAA Order JO 7400.2R.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1G, “FAA National Environmental Policy Act Implementing Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 5000 Class D Airspace.

* * * * *

ACE KS D Wichita, KS [Amended]

Beech Factory Airport, KS

(Lat 37°41′38″ N, long 097°12′54″ W)

That airspace extending upward from the surface to but excluding 2,700 feet MSL within a 4.4-mile radius of Beech Factory Airport excluding that airspace within the McConnell AFB, KS, Class D airspace area and Class E surface area and excluding that portion north of a line from lat 37°43′22″ N, long 097°18′26″ W to lat 37°43′23″ N, long 097°07′49″ W. This Class D airspace area is effective during the specific dates and times established in advance by a Notice to Airmen. The effective dates and times will thereafter be continuously published in the Chart Supplement.

ACE KS D Wichita, KS [Amended]

McConnell AFB, KS

(Lat 37°37′23″ N, long 097°16′03″ W)

Beech Factory Airport, KS

(Lat 37°41′38″ N, long 097°12′54″ W)

That airspace extending upward from the surface to and including 3,900 feet MSL within a 4.6-mile radius of McConnell AFB excluding that airspace within a 1-mile radius of Beech Factory Airport and excluding that portion within the Wichita, KS, Class C airspace area. This Class D airspace area is effective during the specific dates and times established in advance by a Notice to Airmen. The effective dates and times will thereafter be continuously published in the Chart Supplement.

* * * * *

6002 Class E Airspace Areas Designated as Surface Areas.

* * * * *

ACE KS E2 Wichita, KS [Amended]

Beech Factory Airport, KS

(Lat 37°41′38″ N, long 097°12′54″ W)

That airspace extending upward from the surface within a 4.4-mile radius of Beech Factory Airport excluding that airspace within the McConnell AFB, KS, Class D airspace and Class E surface airspace areas and excluding that portion north of a line from lat 37°43′22″ N, long 097°18′26″ W to lat 37°43′23″ N, long 097°07′49″ W. This Class E airspace area is effective during the specific dates and times established in advance by a Notice to Airmen. The effective dates and times will thereafter be continuously published in the Chart Supplement.

ACE KS E2 Wichita, KS [Amended]

Colonel James Jabara Airport, KS

(Lat 37°44′51″ N, long 097°13′16″ W)

That airspace extending upward from the surface within a 4.3-mile radius of Colonel James Jabara Airport excluding that airspace south of the line from lat 37°43′22″ N, long 097°18′26″ W to lat 37°43′23″ N, long 097°07′49″ W and excluding that portion within the Wichita, KS, Class C airspace area.

ACE KS E2 Wichita, KS [Establish]

McConnell AFB, KS

(Lat 37°37′23″ N, long 097°16′03″ W)

Beech Factory Airport, KS

(Lat 37°41′38″ N, long 097°12′54″ W)

That airspace extending upward from the surface within a 4.6-mile radius of McConnell AFB excluding that airspace within a 1-mile radius of Beech Factory Airport and excluding that portion within the Wichita, KS, Class C airspace area. This Class E airspace area is effective during the specific dates and times established in advance by a Notice to Airmen. The effective dates and times will thereafter be continuously published in the Chart Supplement.

* * * * *

6003 Class E Airspace Areas Designated as an Extension.

* * * * *

ACE KS E3 Wichita, KS [Establish]

Wichita Dwight D. Eisenhower National Airport, KS

(Lat 37°39′00″ N, long 097°25′59″ W)

Wichita VORTAC

(Lat 37°44′43″ N, long 097°35′02″ W)

That airspace extending upward from the surface within 7.2 miles each side of the 126° bearing from the Wichita VORTAC extending from the airport to 7.8 miles northwest of the airport.

* * * * *

6004 Class E Airspace Areas Designated as an Extension to a Class D or Class E Surface Area.

* * * * *

ACE KS E4 Wichita, McConnell AFB, KS [Remove]

* * * * *

Paragraph 6005 Class E Airspace Areas Extending Upward From 700 Feet or More Above the Surface of the Earth.

* * * * *

ACE KS E5 Wichita, KS [Amended]

Wichita Dwight D. Eisenhower National Airport, KS

(Lat 37°39′00″ N, long 097°25′59″ W)

Wichita VORTAC

(Lat 37°44′43″ N, long 097°35′02″ W)

Wichita Dwight D. Eisenhower Intl: RWY 01R-LOC

(Lat 37°39′52″ N, long 097°24′59″ W)

McConnell AFB, KS

(Lat 37°37′23″ N, long 097°16′03″ W)

Augusta Municipal Airport, KS

(Lat 37°40′11″ N, long. 097°04′41″ W)

Colonel James Jabara Airport, KS

(Lat 37°44′51″ N, long. 097°13′16″ W)

The airspace extending upward from 700 feet above the surface within a 7.9-mile radius of Wichita Dwight D. Eisenhower National Airport; and within 1.1 miles each side of the 126°/306° bearings from the Wichita VORTAC extending from the 7.9-mile radius of Wichita Dwight D. Eisenhower National Airport to 9.5 miles northwest of the Wichita Dwight D. Eisenhower International Airport; and within 4 miles each side of the 200° bearing from the Wichita Dwight D. Eisenhower Intl: RWY 01R-LOC extending from the 7.9-mile radius of Wichita Dwight D. Eisenhower National Airport to 12.3 miles south of Wichita Dwight D. Eisenhower National Airport; and within a 7.1-mile radius of McConnell AFB; and within a 6.8-mile radius of the Augusta Municipal Airport; and within a 6.8-mile radius of the Colonel James Jabara Airport.

* * * * *

Issued in Fort Worth, Texas, on August 7, 2025.
Dallas W. Lantz,
Acting Manager, Operations Support Group, ATO Central Service Center.

[FR Doc. 2025-15218 Filed 8-8-25; 8:45 am]

BILLING CODE 4910-13-P